DEPARTMENT OF HEALTH AND HUMAN SERVICES

Centers for Disease Control and Prevention

Multi-Agency Informational Meeting To Discuss Reporting Requirements for Entities; Public Webinar

AGENCY: Centers for Disease Control and Prevention (CDC), Department of Health and Human Services (HHS).

ACTION: Notice.

SUMMARY: The Division of Select Agents and Toxins (DSAT) in the Centers for Disease Control, an Operating Division of the Department of Health and Human Services, and the U.S. Department of Agriculture's Animal and Plant Health Inspection Service (APHIS), Agriculture Select Agent Services (AgSAS), announce a public webinar to provide guidance regarding the forms used to report or submit information to the Federal Select Agent Program.

DATES: The webinar will be held September 23, 2020 from 11 a.m. to 4 p.m. EDT. Participants must register by September 18, 2020. Registration instructions are found on the website, https://www.selectagents.gov.

ADDRESSES: This meeting will be held by webinar.

FOR FURTHER INFORMATION CONTACT: CDC: Samuel S. Edwin, Ph.D., Director, DSAT, Center for Preparedness and Response, CDC, 1600 Clifton Road NE, MS H-21-7, Atlanta, Georgia 30329. Telephone: (404) 718-2000; email: lrsat@cdc.gov. APHIS: Jack Taniewski, DVM, Director, AgSAS, APHIS, 4700 River Road, Unit 2, Riverdale, MD 20737. Telephone: (301) 851-3300 (option 3); email: AgSAS@aphis.usda.gov.

SUPPLEMENTARY INFORMATION: The public webinar, scheduled for Wednesday, September 23, 2020, is an opportunity for the affected community and other interested individuals to obtain specific regulatory guidance for the forms used to report or submit information to the Federal Select Agent Program.

Representatives from the Federal Select Agent Program, Department of Commerce, Department of Transportation, and the Minnesota Department of Health will be present during the webinar to address questions and concerns from the webinar participants.

Participants who want to participate in the webinar should complete their registration online by September 18, 2020. Special instructions will be provided to those who may need special accommodation in order to participate in the webinar. The registration instructions are located on this website: http://www.selectagents.gov.

Dated: July 28, 2020.
Sandra Cashman,
Executive Secretary, Centers for Disease Control and Prevention.

[FR Doc. 2020-16615 Filed 7-30-20; 8:45 am]

BILLING CODE 4163-18-P